DEPARTMENT OF LABOR

Employment & Training Administration

[SGA/DFA-PY-08-21]

Solicitation for Grant Applications (SGA); Amendment One; Green Capacity Building Grants

AGENCY: Employment and Training Administration (ETA), Labor.

ACTION: Notice: Amendment to SGA/DFA-PY-08-21.

SUMMARY: The Employment and Training Administration published a document in the Federal Register on June 24, 2009, announcing the availability of funds and Solicitation for Grant Applications (SGA) for Green Capacity Building Grants to be awarded through a competitive process. This notice is the first amendment to the SGA and clarifies items related to (1) Eligible Applicants (Section III.A); (2) Participants Eligible to Receive Training (Section III.C.1); and, (3) Section B on Green Industries and Occupations (Supplementary Information). The document is hereby amended.

(1) Section III.A, Eligible Applicants: The eligible applicant list in Section III, A. on p. 30167 is revised by removing the following grantee program, “Advancing Registered Apprenticeship into the 21st Century: Collaborating for Success (SGA/DFA PY 08-11)” because funding decisions for this program have not been made and resultant grantees will not be eligible to apply for funds through this SGA. Accordingly, Section III, A. on p. 30167 is revised by replacing the language designated below as “old text” with the language designated as “new text”:

Old Text: “DOL intends to build the green training capacity of our current grantees, therefore, eligible applicants are limited to the following DOL grantees who received funding through the SGA number indicated in the parentheses: Indian and Native American Program (SGA/DFA PY 07-04), National Farmworker Jobs Program (NFJP) (SGA/DFA PY 06-04), Prisoner Re-Entry Initiative (PRI) (SGA/DFA PY 08-03 & SGA/DFA PY 07-05), Senior Community Service Employment Program (SCSEP) (SGA/DFA PY 07-02 & SGA/DFA PY 05-06), Women in Apprenticeship and Non-Traditional Occupations (WANTO) (SGA/DFA PY 07-08 & SGA/DFA PY 06-01), Advancing Registered Apprenticeship into the 21st Century: Collaborating for Success (SGA/DFA PY 08-11), YouthBuild (SGA/DFA PY 08-07 & SGA/DFA PY 06-08), and Young Offender Grants (SGA/DFA PY 08-09, SGA/DFA PY 06-10, & SGA/DFA PY 06-14).”

New Text: “DOL intends to build the green training capacity of our current grantees, therefore, eligible applicants are limited to the following DOL grantees who received funding through the SGA number indicated in the parentheses: Indian and Native American Program (SGA/DFA PY 07-04), National Farmworker Jobs Program (NFJP) (SGA/DFA PY 06-04), Prisoner Re-Entry Initiative (PRI) (SGA/DFA PY 08-03 & SGA/DFA PY 07-05), Senior Community Service Employment Program (SCSEP) (SGA/DFA PY 07-02 & SGA/DFA PY 05-06), Women in Apprenticeship and Non-Traditional Occupations (WANTO) (SGA/DFA PY 07-08 & SGA/DFA PY 06-01), YouthBuild (SGA/DFA PY 08-07 & SGA/DFA PY 06-08), and Young Offender Grants (SGA/DFA PY 08-09, SGA/DFA PY 06-10, & SGA/DFA PY 06-14).”

(2) Section III.C.1, Participants Eligible to Receive Training: A portion of this section is revised to clarify that individuals with disabilities are among the populations that may be served. Accordingly, Section III.C.1 on p. 30167 is revised by replacing the language designated below as “old text” with the language designated as “new text”:

Old Text: “Other individuals, such as untapped labor pools and entry-level and incumbent workers that do not fit into the categories above, may also be served through these projects subject to the priority considerations given to the populations above and consistent with the populations to be served through the grantee's statements of work for their existing grant(s).”

Next Text: “Other individuals, such as untapped labor pools including individuals with disabilities and entry-level and incumbent workers that do not fit into the categories above, may also be served through these projects subject to the priority considerations given to the populations above and consistent with the populations to be served through the grantee's statements of work for their existing grant(s).”

(3) Supplementary Information Section B “Green Industries and Occupations”: On p. 30166 is revised to provide further information on the industries in which applicants may focus and includes the following statement:

New Text: “We will also evaluate applications for projects that include emerging green occupations from industries that have not been discussed in this section.”

FOR FURTHER INFORMATION CONTACT: Denise Roach, Grants Management Specialist, Division of Federal Assistance, at (202) 693-3820.

Signed at Washington, DC this 17th day of July, 2009.
Eric D. Luetkenhaus,
Grant Officer.

[FR Doc. E9-17455 Filed 7-22-09; 8:45 am]

BILLING CODE 4510-FN-P